DEPARTMENT OF HEALTH AND HUMAN SERVICES

Administration on Aging

Statement of Organization, Functions, and Delegations of Authority

This notice amends Part B of the Statement of Organization, Functions, and Delegations of Authority of the Department of Health and Human Services (HHS), Administration on Aging (AoA), as follows: Part B, Administration on Aging (67 FR 36883-36890), as last amended, May 28, 2002. This reorganization of AoA will achieve several important objectives: It will streamline the organization; consolidate and elevate AoA's disaster preparedness and responses activities; improve the integration of AoA's budget development and policy analysis functions; and enhance the organization's capacity to implement the provisions of the Older Americans Act Amendments of 2006 which seek to assist older Americans to conserve and extend their personal resources by bringing transparency to long-term care, divert seniors away from nursing home care, and empower older adults to take more control of their own health through lifestyle and behavioral changes. The changes are as follows:

I. Delete Part B, “The Administration on Aging” in its entirety and replace with the following:

B.00 Mission.

B.10 Organization.

B.20 Functions.

B.00 Mission. The Administration on Aging (AoA) is the principal agency designated to carry out the provisions of the Older Americans Act (“OAA” or “The Act”) of 1965, as amended, 42 U.S.C. 3001 et seq., and the Alzheimer's Disease Demonstration Grants to States Program, established under section 398 of the Public Health Service Act (PHSA) as amended by Public Law 101-157, and by Public Law 105-379, the Health Professions Education Partnerships Act of 1998. AoA serves as the effective and visible advocate for older persons within the Department of Health and Human Services (HHS) and other Federal agencies. AoA assists the Secretary in all matters pertaining to opportunities and challenges of the elderly. It advocates for the needs of older persons in program planning and policy development within the Department and in other Federal agencies.

B.10 Organization. The Administration on Aging is an Operating Division (OPDIV) of the Department of Health and Human Services (HHS), which is headed by the Assistant Secretary for Aging who reports directly to the Secretary. In addition to the Assistant Secretary, the AoA consists of the Deputy Assistant Secretary for Policy and Programs and Staff and Program Offices. AoA is organized as follows:

Immediate Office of the Assistant Secretary (BA).

Center for Policy and Management (BE).

Center for Program Operations (BF).

B.20 Functions.

A. Immediate Office of the Assistant Secretary (BA):

BA.00 Mission.

BA.10 Organization.

BA.20 Functions.

BA.00 Mission. The Immediate Office of the Assistant Secretary provides executive direction, leadership, and guidance for OAA programs and the PHSA Alzheimer's Program, and serves as the focal point for the development, coordination and administration of those programs nationwide. The Office advises the Secretary on issues affecting America's elderly population.

BA.10 Organization. The Immediate Office of the Assistant Secretary is headed by an Assistant Secretary, who reports to the Secretary. The Immediate Office includes the Deputy Assistant Secretary for Policy and Programs and consists of the following components, which report to the Deputy Assistant Secretary for Policy and Programs:

Immediate Office of the Assistant Secretary (BA).

Executive Secretariat (BAA).

Office of Communications (BA1).

Office of Preparedness and Response (BA2).

BA.20 Functions.

1. Immediate Office of the Assistant Secretary (BA). The Immediate Office of the Assistant Secretary (IOAS) is responsible to the Secretary for carrying out AoA's mission and provides executive supervision to the major components of AoA. The Office serves as the effective and visible advocate within the Federal government to ensure the rights and entitlements of the elderly.

Sets national policies, establishes national priorities, ensures policy consistency, and directs plans and programs conducted by AoA. Advises the Secretary, HHS agencies, and other Federal agencies on the characteristics, circumstances, and needs of older people, and on policies, plans and programs designed to promote their welfare.

The Deputy Assistant Secretary for Policy and Programs serves as the Assistant Secretary's primary associate in carrying out the mission of the agency. The Deputy Assistant Secretary for Policy and Programs serves as the AoA's Reports Clearance Officer and is the AoA liaison with the Assistant Secretary for Public Affairs, the Assistant Secretary for Legislation, the Office of the General Counsel, the Office of the Inspector General, and the Government Accountability Office for areas under the Office's purview.

In collaboration with other Federal agencies, it develops and implements interagency agreements to assist older persons. Provides liaison with other Federal advisory committees focused on the aging. Works with national aging organizations, professional societies, and academic organizations to identify mutual interests and plan voluntary and funded approaches to meet the needs of older persons. Ensures affirmative action throughout the Aging Network in employment and service delivery.

2. Executive Secretariat (BAA). The Executive Secretariat (ES) coordinates essential policy and program concerns and ensures that issues requiring the attention of the Assistant Secretary, Deputy Assistant Secretary, and/or executive staff are addressed on a timely and coordinated basis. It serves as the AoA liaison with the HHS Executive Secretariat. Receives, assesses, and controls incoming correspondence and assignments to the appropriate AoA component(s) for response and action; provides assistance and advice to AoA staff on the development of responses to correspondence and on the controlled correspondence system; and tracks development of periodic reports and facilitates departmental clearance. Maintains official copies of all policy and information issuances and data collection instruments, ensuring proper clearance before issuance and annually reviews for accuracy and compliance with laws and regulations; reviews all materials for Federal Register publication, ensuring compliance with guidelines; serves as records manager providing assistance to both Headquarters and Regional staff regarding filing practices, retention and disposition of records. Serves as liaison with the Office of the Federal Register on regulatory actions and the Office of Inspector General and the Government Accountability Office on all program matters other than those related to financial management, grants, or procurement management; and serves as the Freedom of Information Act (FOIA) Officer for AoA, reviews FOIA requests, and arranges for appropriate responses in coordination with the HHS FOIA Officer. Coordinates mandated OMB approvals required under the Paperwork Reduction Act of 1980, as amended.

3. Office of Communications (BA1). The Office of Communications (OC) is responsible for developing information dissemination and outreach strategies for AoA and the National Aging Network and for coordinating the development of information materials, both printed and electronic. In coordination with the Department, manages AoA's media relations and legislative liaison activities.

Coordinates the development of legislative proposals, testimony, background statements, and other policy documents for use by the Assistant Secretary in activities related to legislation. In coordination with the HHS Office of the Assistant Secretary for Legislation, analyzes proposed and enacted legislation related directly or indirectly to older people, including legislation directly affecting OAA programs. Through automated legislative information systems tracks bills related to the aging. Develops and issues status reports regarding key legislative developments to Headquarters and Regional Support Centers staff, the network of State and Area Agencies on Aging, and Indian Tribal Organizations.

Coordinates with the Office of the Assistant Secretary for Public Affairs, including planning and implementing strategy for relations with the news and other information media; and initiates media outreach activities and responds to all media inquiries concerning AoA programs and related issues.

Oversees the international liaison functions of AoA, coordinating AoA international activities with Departmental as well as other Federal agencies, States and national organizations concerned with international aging matters. At all levels, from national to the local service delivery level, develops methods and collaborations to articulate the problems and concerns of the elderly to organizations beyond the traditional network of agencies and works with these organizations to be more sensitive and responsive to age-related needs and issues.

Compiles, publishes, and disseminates information on programs funded under the Act, as well as demographic data on the elderly population and data from other Federal agencies on the health, social and economic status of older persons. Promotes information dissemination in professional fields. Ensures dissemination of information such as best practice models to exchange program experience with the network of State and Area Agencies on Aging; and works with organizations in the field of aging and with other organizations in fields that impact older persons to enhance the dissemination of consumer and technical information. Works with the Office of Evaluation to ensure the successful collection of data and its analysis to demonstrate the effectiveness of AoA dissemination activities. Ensures that program and service information and trends are disseminated to advocates for older persons.

Responds to written, phone and personal inquiries from all sources dealing with services and needs of the aging.

3. Office of Preparedness and Response (BA2). The Office of Preparedness and Response (OPR) provides executive and administrative advice, expertise, and direction related to emergencies, disasters, preparedness and response. The OPR serves as the principal advisory staff to the Assistant Secretary on matters relating to emergencies, whether resulting from acts of nature, accidents, or terrorism. The OPR coordinates interagency activities between AoA, HHS, other Federal agencies, and other national, State, local and Tribal organizations and entities and officials responsible for emergency preparedness and response.

OPR coordinates with AoA's Regional Support Centers and aging network organizations in response to the needs of older individuals following a Presidentially-declared disaster to assess needs and provide disaster assistance, relief and reimbursement pursuant to section 310 of the Older Americans Act. OPR serves as the primary liaison with the Secretary's Operations Center and the Office of the Assistant Secretary for Preparedness and Response and serves on interagency working groups to represent AoA and the unique interests of older individuals and other special needs populations. OPR is responsible for developing operational plans and training to ensure the preparedness of AoA, the Aging Network and the public to respond to threats, disasters and emergencies; for policy formulation and coordination for preparedness and response strategic planning; and for the development and implementation of plans to ensure the continuity of operations.

B. Center for Policy and Management (BE):

BE.00 Mission.

BE.10 Organization.

BE.20 Functions.

BE.00 Mission. The Center for Policy and Management (CPM) advises and supports the Assistant Secretary for Aging in developing effective Federal policies, programs, and budgets to address the aging of the population, as mandated under Title II and Title IV of the Older Americans Act; and provides leadership related to the financial, grants, information resources, procurement, administrative, human resources, and strategic planning activities of AoA.

BE.10 Organization. The Center for Policy and Management is headed by a Deputy Assistant Secretary who reports directly to the Assistant Secretary for Aging. The Center is organized as follows:

Office of the Deputy Assistant Secretary for Policy and Management (BE).

Office of Management Analysis and Resources (BEA).

Office of Budget and Finance (BE1).

Office of Administrative and Technology Services (BE2).

Office of Grants Management (BE3).

Office of Planning and Policy Development (BE4).

BE.20 Functions.

1. Office of the Deputy Assistant Secretary for Policy and Management (BE). The Office of the Deputy Assistant Secretary for Policy and Management (ODASPM) directs and coordinates all activities of the Center for Policy and Management (CPM). The Deputy Assistant Secretary advises and supports the Assistant Secretary for Aging in serving as the visible and effective advocate for older people within the Federal Government. Serves as the focal point within AoA for identifying and analyzing emerging policy and program issues and trends related to the aging population, identifying appropriate Federal responses, and formulating an agency-wide policy and program development strategy consistent with the priorities established by the Assistant Secretary for Aging. Is responsible for leading the agency's strategic planning, policy development and program development functions, including the formulation of short- and long-term strategies for advancing the Assistant Secretary's policy and program priorities.

The Deputy Assistant Secretary also serves as the AoA's Chief Financial Officer (CFO) and Chief Information Officer (CIO) and is the principal advisor and counsel to the Assistant Secretary for Aging on all aspects of internal administration and management of AoA. Serves as the AoA liaison with the Assistant Secretary for Planning and Evaluation, the Assistant Secretary for Administration and Management, the Assistant Secretary for Resources and Technology, the Office of the General Counsel, and the Office of Management and Budget for areas under CPM's purview. Advises the Assistant Secretary for Aging on budget, financial, grants, information resources, procurement, administrative, and human resources activities. Develops, administers, and coordinates financial, operational, and budgetary policies, processes, and controls necessary to administer AoA programs and financial resources; directs discretionary and mandatory grants activities; oversees the utilization of information resources, information systems and telecommunications management in AoA; and coordinates AoA's internal control activities.

2. Office of Management Analysis and Resources (BEA). The Office of Management Analysis and Resources (OMAR) oversees and coordinates cross-cutting management activities and advises the Deputy Assistant Secretary on all aspects of administrative operations. The OMAR Director serves as the Management Control Officer and ensures that AoA has internal controls in place for its administrative and programmatic activities that provide reasonable assurance of the effectiveness and efficiency of operations and compliance with applicable laws and regulations. OMAR provides leadership for the strategic planning and operational management of the AoA's human capital resources and serves as the primary liaison with the Rockville Human Resources Center, which provides personnel support services to AoA.

Conducts annual reviews and assessments of internal controls required under the Federal Managers Financial Integrity Act and ensures compliance with the Government Accountability Office and Office of Management and Budget standards. Oversees the implementation of cross-cutting management initiatives including the President's Management Agenda and strategic plan management goals and objectives; advises on actions needed to support various initiatives; and prepares reports on the status of implementation activities. Monitors legislation related to administrative management and provides analysis of the impact on AoA programs and resources. Coordinates with other components to carry out reviews of administrative activities and management practices required under the Chief Financial Officers Act, the Improper Payments Information Act, the Federal Information Security Management Act, and other legislation.

Plans, organizes and conducts management studies of organizational structures, functional statements, job structures, staffing patterns, and management and administrative information systems; identifies and resolves problems of organization and administrative management; and develops administrative management policies, strategies, procedures and techniques. Prepares and maintains organizational functional statements and delegations and designations of authority for AoA.

Develops and implements human capital strategies and strategic workforce plans; directs the development and creation of strategies to attract diverse talent and develop a highly skilled workforce; and provides leadership in the development of plans for achieving short- and long-range human capital goals. Provides leadership and guidance to meet the human resource management needs and coordinates internal and external resources to provide staff with personnel services including position management, performance management, employee recognition, staffing, recruitment, employee and labor relations, employee assistance, payroll liaison, staff development and training, and special hiring and placement programs.

3. Office of Budget and Finance (BE1). The Office of Budget and Finance (OBF) supports the Deputy Assistant Secretary for Policy and Management in fulfilling AoA's Chief Financial Officer responsibilities. The OBF Director serves as the Deputy Chief Financial Officer and oversees and coordinates AoA's budget formulation, budget execution, and financial management activities. OBF serves as the primary liaison with the Program Support Center's Division of Financial Operations, which provides accounting, audit, and financial management services to AoA.

In coordination with AoA program offices, formulates and presents budget estimates; executes apportionment documents; and plans, directs, and coordinates financial and budgetary programs of AoA. Provides guidance to AoA program offices in preparing budgets, justifications, and other supporting budgetary materials. Solicits, obtains and consolidates information and data from other AoA offices, and prepares budget documents on behalf of the Assistant Secretary for presentation to the Department, the Office of Management and Budget (OMB), and the Congress.

Analyzes the budget as approved by the Congress and apportioned by OMB, obtains input from program offices and recommends for the Assistant Secretary's approval a financial plan for its execution. Makes allowances to AoA offices within the guidelines of the approved financial plan. Develops and maintains an overall system of budgetary controls to ensure observance of established ceilings on both program—including all mandatory and discretionary grant accounts—and Salaries and Expense funds; maintains administrative control of funds against allotments and allowances; certifies funds availability for all AoA accounts; and coordinates the management of AoA's interagency agreement activities. Prepares requests for apportionment of appropriated funds; and prepares spending plans and status-of-funds reports for the Assistant Secretary.

Develops financial operating procedures and manuals; coordinates the preparation of AoA's financial audits; and provides analysis on financial issues. Serves as the AoA liaison with the Office of the Secretary and OMB on all budgetary and financial matters. Acts as AoA's coordination point for all travel management activities; provides technical assistance and oversight on the use of the GovTrip system; manages employee participation in the Travel Charge Card program, and coordinates Travel Management Center services for AoA.

4. Office of Administrative and Technology Services (BE2). The Office of Administrative and Technology Services (OATS) provides support to AoA in the areas of facilities, acquisitions, information technology, and other administrative services. The OATS Director serves as the Deputy Chief Information Officer and prepares, coordinates and disseminates information, policies, standards, guidelines, and procedures on information technology and administrative management issues. OATS serves as the primary liaison to, and provides oversight for the Program Support Center's Division of Acquisition Management, which provides procurement services; and the Information Technology Service Center, which provides for the management, maintenance and operation of AoA's information technology systems infrastructure, including the LAN, personal computers, software, and support services.

Provides oversight and direction to meet the administrative needs of AoA components. Serves as liaison with the Office of the Secretary, the General Services Administration (GSA), and outside vendors to plan, develop and coordinate guidelines and activities for space, facilities and telecommunications services. Serves as the lead for AoA in coordination and liaison with Departmental, GSA, Federal Protective Service, and other Federal agencies for planning and executing the Agency's environmental health, safety and physical security programs. Provides telecommunications planning and management, including procurement, installation, and maintenance of telecommunications equipment and services such as telephones, cellular phone service, cable TV service, and audio conferencing equipment and services.

Assists other AoA components in securing contractor assistance by advising on appropriate acquisition vehicles, developing statements of work, and managing the technical aspects of contracts. Develops and implements procurement strategies for information technology support services; reviews all information technology acquisition documentation for compliance with applicable laws and regulations; defines the specifications for procurement of all hardware and software; and identifies opportunities to share information technology services through inter-governmental, inter-departmental and inter-agency agreements. Monitors the use of credit cards for small purchases and establishes and manages contracts and/or blanket purchase agreements for administrative support and facilities management services.

Manages the development of AoA custom applications, systems, and Web sites; oversees training and technical assistance for all AoA systems, hardware and software; and coordinates the preparation of manuals and policy issuances required to meet the instructional and informational needs of users of the systems. Directs and coordinates AoA's systems security and privacy responsibilities, including protection, security and integrity of AoA data; and is responsible for establishing and maintaining a secure Inter- and intranet presence. Represents AoA on the Department's Chief Information Officer's council and other Departmental information technology policy and planning boards, teams, and workgroups.

5. Office of Grants Management (BE3). The Office of Grants Management (OGM) serves as AoA's focal point for management, leadership and administration of discretionary and mandatory grants, and cooperative agreements. The OGM Director serves as the Chief Grants Management Officer and provides national policy oversight and development for grants management and administration matters. The Office ensures that all grant awards conform to applicable statutory, regulatory, and administrative policy requirements, both before and following award. Maintains liaison and coordination with appropriate AoA and HHS organizations to ensure consistency between AoA discretionary and mandatory grant award activities, including the Program Support Center's Division of Payment Management, which provides payment system services for grants.

Ensures that the administrative business and financial management aspects of discretionary grants administration are carried out and grantee performance is monitored. Performs cost analysis/budget analysis for all discretionary grant award documents and negotiates grant budgets, executing all awards for AoA. Advises and assists management and program officials in developing, implementing and evaluating program plans, strategies, regulations, announcements, guidelines and procedures. Recommends approval or disapproval of any grant applications based on programmatic considerations. Only the Office of Grants Management has the authority to obligate the Government to the expenditure of funds for grants and cooperative agreements. Serves as liaison with other offices in the Department.

Issues and maintains control over mandatory grant awards under the OAA, and makes adjustments to previously issued mandatory grant awards. In coordination with all AoA Headquarters and Regional Support Centers having grant administrative responsibilities: Reviews and assesses AoA mandatory grant award procedures; directs and/or coordinates management initiatives to improve mandatory grant programs in financial areas; develops proposals for improving the efficiency in awarding grants and coordinating financial operations among AoA programs; establishes priorities and develops procedures for grantee financial monitoring; and reviews activities at the field level for all AoA discretionary and mandatory grant programs. For mandatory grant activities, develops financial management standards for State and Area Agencies and provides guidance on and interpretation of applicable Federal regulations to AoA staff. Based on mandatory grants management policies and procedures approved by the Department, reprograms mandatory grant funds as required under the OAA. Following consultation with all Headquarters and Regional Support Centers having grant administrative responsibilities, and with the approval of the Assistant Secretary: Develops AoA instructions and procedures for the administration of the business aspects of all mandatory and formula grants, including those approved in AoA Regional Support Centers.

Provides training, technical assistance, overall guidance, monitoring and assistance to AoA staff in all areas of administrative and financial management of grants. Has primary responsibility for developing grants management policy issuances, and ensuring consistent policy interpretation within AoA concerning grants management. Serves as AoA liaison with the Government Accountability Office (GAO), the HHS Office of Inspector General and the Department's Office of Grants on grant matters. Assists at discretionary and mandatory grant hearings, before the Departmental Appeals Board, in response to disallowances and other financial claims by AoA, State Agencies on Aging, and other grantees. Responds to Departmental and Office of Inspector General audit reviews, ensuring proper analysis and resolution of audit findings by Regional Support Centers for final action by the Assistant Secretary. Coordinates receipt and processing of all grants and related materials.

6. Office of Planning and Policy Development (BE4). The Office of Planning and Policy Development (OPPD) is responsible for analyzing trends in demographics, service needs, public policy and program development, and translating those trends into new policies and programs to assist the elderly. OPPD develops and maintains effective relationships with government and private sector entities and their representatives at the Federal, State and local levels to develop a unified policy toward, and promote the aims of the Older Americans Act; oversees development of more responsive service systems through intergovernmental and private sector initiatives and partnerships to address age-related issues and concerns.

Coordinates the development and implementation of the agency's strategic plan that establishes long and short-range goals; objectives, strategies and action plan for advancing the agency's policy and program agenda. Reviews and coordinates all policy and program development documents and activities to ensure consistency with AoA's strategic plan; and adjusts goals and strategies as appropriate.

Directs intergovernmental affairs activities as it relates to the agency's policy and program development agenda, and develops and maintains effective relationships with other governmental departments and agencies. Plans, negotiates, facilitates and updates, as appropriate, memoranda of understanding with other departments and agencies to promote agreements and cooperative relationships and ventures that address policies and services affecting the aging population.

Maintains information on, and pursues collaborative opportunities with, other Federal agencies, non-profit organizations and private corporations that have the potential to contribute to AoA's policy and program development priorities.

Supports the Assistant Secretary for Aging in implementing section 203(1) of the OAA by coordinating, advising, consulting with and cooperating with the head of each department, agency and instrumentality of the Federal Government proposing or administering programs or services substantially related to the objectives of the OAA. Oversees the consultation process by which agency heads must consult with AoA before establishing programs or services related to the OAA. Plans and implements the process for the collaboration of all Federal agencies with AoA in the execution by those agencies of programs and services related to the OAA.

Provides technical, program and policy development input on legislative activities and the annual budget development cycle. Participates in Departmental and inter-departmental activities that concern health and social services; reviews and comments on Departmental regulations and policies regarding health programs and institutional and non-institutional long-term care services. Provides agency-wide leadership on the programmatic functions of AoA's discretionary grant programs. Plans and directs activities authorized under Title IV of the OAA as amended. Conducts activities for the development of adequate knowledge for improving the circumstances of older people. Develops a knowledge base for policy decisions and program development and coordination through support of a wide range of research, demonstration, and training activities.

Prepares the planning documents for, and coordinates the development of, annual discretionary funds program announcements. Provides technical input for Congressional and budget presentations related to research and demonstration programs. Evaluates research, demonstration and training grant and contract proposals; and recommends approval/disapproval, monitors progress, gives technical guidance to, and evaluates the performance of grantees and contractors. Develops standards and identifies successful service and systems development strategies and best practice models for use by the Aging Network. Develops technical assistance material and dissemination strategies for these strategies, models, and best practice suggestions, in coordination with the other AoA offices.

Conducts relevant policy research and program demonstrations to inform policy and program development; undertakes qualitative and quantitative analyses to develop policy options and recommendations for the Assistant Secretary for Aging. Develops policy reports based on the needs and circumstances of older people, their family members and the aging population. Manages a program for the collection, analysis, and dissemination of information related to the needs and problems of older persons. Develops and coordinates initiatives with other Federal agencies, national aging organizations and universities to fill gaps in information in the field of aging. Reviews research findings from the literature and products from AoA, the Aging Network, and other sources regarding information on aging to identify new findings that will be useful to older people and professionals operating in the field of aging. Determines the relative utility of such products, and in collaboration with the Office of Communications, their potential users and the most effective way to disseminate the information to users.

Promotes coordination of AoA's research and demonstrations with other national, field and local programs related to aging. Within overall AoA strategy and long-range plans, conducts continuing studies and periodic reviews of needs and resources in the field of aging, and makes recommendations for action to the Assistant Secretary for Aging.

C. Center for Program Operations (BF)

BF.00 Mission.

BF.10 Organization.

BF.20 Functions.

BF.00 Mission. The Center for Program Operations (CPO) advises the Assistant Secretary for Aging on and provides leadership related to programs under the OAA.

BF.10 Organization. A Deputy Assistant Secretary who reports directly to the Assistant Secretary for Aging heads the Center for Program Operations. The Center is organized as follows:

Office of the Deputy Assistant Secretary for Program Operations (BF).

Office of Evaluation (BFA).

Office of Core Programs (BF1).

Office for American Indian, Alaskan Native, and Native Hawaiian Programs (BF2).

Office of Elder Rights (BF3).

Office of Regional Operations (BFD1 to BFDX).

BE.20 Functions.

1. Office of the Deputy Assistant Secretary for Program Operations (BF). The Office of the Deputy Assistant Secretary for Program Operations (ODASPO) provides program expertise on program development, advocacy and initiatives within assigned areas. Provides leadership on behalf of Titles III, VI and VII of the OAA; those parts of Title II and Title IV of the OAA for which the Office is responsible; and Section 398 of the Public Health Service Act (PHSA). Plans, directs and evaluates the programs under the OAA designed to provide planning, coordination and services to older Americans through grant programs authorized under Titles II, III, IV, VI, and VII of the OAA.

Consults with and provides technical assistance to and education for State and Area Agencies on Aging, Tribal grantees, and local community service providers in the development of plans, goals, and system development activities. Ensures that statutory requirements, regulations, policies, and instructions are implemented for Titles III, VI and VII, and for the functions under Title II and Title IV of the OAA for which the Office is responsible, as well as for Section 398 of the PHSA. In addition, the Deputy Assistant Secretary provides oversight and leadership to the Nutrition Officer established in Title II of the OAA who provides technical assistance and guidance to Regional Support Centers, States, Area Agencies on Aging and community service providers.

The Deputy Assistant Secretary carries out the functions and serves as the Director of the Office of long-term Care Ombudsman Programs established in Section 201(d)(1) of the OAA. Serves as the effective and visible advocate regarding Federal policies and laws that may adversely affect the health, safety, welfare, or rights of older residents of long-term care facilities; reviews Federal legislation, regulations, and policies regarding long-term care ombudsman programs and makes recommendations to the Secretary and Assistant Secretary; coordinates the activities of AoA with other Federal, State and local entities relating to long-term care ombudsman programs; prepares an annual report to Congress on the effectiveness of services provided by State long-term care ombudsman programs; and establishes standards for the training of State long-term care ombudsman staff.

Supervises and provides technical guidance to the Regional Support Centers as they implement the national programs of the OAA. Ensures that clear and consistent guidance is given on program and policy directives. Issues substantive operating procedures to guide Regional staff of AoA in the conduct of their responsibilities; and establishes standards for performance plans and regularly assesses the performance against the established standards.

2. Office of Evaluation (BFA). The Office of Evaluation (OE) implements, oversees and manages responsibilities assigned by the Government Performance and Results Act of 1993 (GPRA). Interprets AoA goals, priorities, and strategies for consistency with AoA long-range GPRA goals and strategies, and adjusts GPRA goals and strategies accordingly. Provides guidance and technical assistance to AoA organizational units in developing operational plans, particularly in developing measurable objectives and indicators reflecting program and organizational performance. Prepares AoA's annual GPRA plan and report and coordinates with Office of Budget and Finance on the development of the AoA performance budget.

Develops AoA plans and priorities for evaluation of AoA grant programs, with subject matter input from appropriate units. Manages contracting for mandated evaluation projects and performs intramural evaluation studies. Prepares reports of the results of program and impact evaluations conducted by and for AoA, with technical input from other AoA units. Provides technical guidance on evaluation activities conducted as part of AoA's discretionary grants programs.

Coordinates AoA activities related to the collection, analysis, and dissemination of national and program data on older individuals. Develops and manages all aspects of data requirements associated with home and community-based services programs under Title III of the OAA.

Develops and designs the criteria for collecting, analyzing and disseminating program performance data on State and Area Agencies' implementation of OAA programs, and prepares that data for reporting to Congress and the public. Designs, implements and provides guidance and technical assistance to State and Area Agencies on Aging and service providers on data collection and analysis (section 202(b)(28)) and on uniform data collection procedures for State Units on Aging (section 202(b)(29)).

Develops and operates, in coordination with the Office of Administrative and Technology Services, a National Aging Program Information System focused on the information needs of AoA and the Network on Aging to both manage and advocate for the delivery of effective and efficient services to the elderly. Provides liaison with the Federal Task Force on Aging Statistics in support of planning and program requirements. Performs routine and special statistical analyses of data for AoA offices, other Federal and non-Federal organizations, and the general public.

3. Office of Core Programs (BF1). The Office of Core Programs (OCP) serves as the focal point within AoA for the operation, administration, management, and assessment of the programs authorized under Title III of the OAA and section 398 of the PHSA. In addition, the Office performs the functions under Title II of the OAA related to consultation with other Federal agencies and the provision of information about aging services and programs in order to enhance service coordination and delivery.

Implements Title III of the OAA through the development of regulations, policies and guidance governing the development and enhancement of comprehensive and coordinated home and community-based care service delivery systems by State and Area Agencies on Aging. This includes implementing and enhancing systems for supportive services and the operation of multi-purpose senior centers, congregate and home-delivered nutrition services, health promotion and disease prevention services, and caregiver support and assistance services.

Provides guidance regarding State Plan processing and approval, the process and criteria for approval of States? Intrastate Funding Formulas for the allocation and targeting of resources within States, and implementation of the Interstate Funding Formula for distribution of Title III funds among States. Fosters, oversees, ensures accountability and assesses the implementation of Title III by States and Area Agencies through guidance and direction to Regional staff regarding program reviews and program and system development and enhancements. Designs and provides training and technical assistance for program compliance, effectiveness, and enhancement.

Directs and assesses the development of State-administered, home and community-based long-term care systems, and social and supportive services for the elderly. Initiates and encourages expansion of the capacities of home and community-based social service and health care systems to deliver comprehensive services to the elderly. Provides technical and subject matter expertise for the development of these systems, targeted at enhancing the capabilities of State and Area Agencies and local community service delivery programs to improve their service to older people. Coordinates with the Office of Planning and Policy Development to achieve a fully integrated approach for the enhancement of systems of care throughout the nation.

Provides specialized input on programs under the OAA to long-range planning, operational plans and the budget process.

Carries out the functions of the designated nutrition officer, who coordinates nutritional services under the Act and develops the regulations and guidelines, and provides technical assistance regarding nutrition to the AoA Regional Support Centers, State and Area Agencies, nutrition service providers, and other organizations. Serves as the liaison to the United States Department of Agriculture and other Federal agencies and organizations related to nutrition policy and program issues.

Coordinates with the Office of Evaluation to conduct operational studies, program analyses, and evaluations on special issues of concern to the Secretary, the Assistant Secretary, Regional Support Centers, and State and Area Agencies on Aging. Prepares reports on program operations under Title III for the Assistant Secretary, other AoA offices, the Secretary, the President, Congress and the public. Through the analysis of State Plans, evaluation findings and other relevant material, identifies potential Title III program and management issues and develops recommendations to the Assistant Secretary on possible solutions.

4. Office for American Indian, Alaskan Native, and Native Hawaiian Programs (BF2). The Office for American Indian, Alaskan Native, and Native Hawaiian Programs (OAIANNHP) administers programs authorized by Title VI of the Older Americans Act. On behalf of individuals who are older Native Americans, serves as the effective and visible advocate within the Department, with other Departments and agencies of the Federal Government, and with State, local and tribal governments providing leadership and coordination of activities, services and policies affecting American Indians, Alaskan Natives and Native Hawaiian elders. Advocates and promotes linkages among national Indian organizations, national aging organizations, and national provider organizations with the goal of enhancing the interests of and services to Native American elders. Recommends to the Assistant Secretary policies and priorities with respect to the development and operation of programs and activities relating to individuals who are older Native Americans. The Office coordinates activities among other Federal departments and agencies to ensure a continuum of improved services through memoranda of agreements or through other appropriate means of coordination. Carries out the following responsibilities of Title II: Evaluates the outreach under Title III and Title VI and recommends necessary action to improve service delivery, outreach, and coordination between Title III and Title VI services; encourages and assists the provision of information to older Native Americans with need for Supplemental Security Income, Medicaid, food assistance, housing assistance, and transportation assistance; develops research plans, conducts and arranges for research in the field of Native American aging; collects, analyzes, and disseminates information related to problems experienced by older Native Americans, including information on health status of older individuals who are Native Americans, elder abuse, in-home care, and other problems unique to Native Americans; develops, implements, and oversees the uniform data collection procedures for Tribal and Native Hawaiian Organizations; and implements and oversees the consultation requirements of Title II as they apply to Native American issues.

Chairs the Interagency Task Force on Older Indians which is comprised of representatives from the Federal departments and agencies with an interest in the welfare of individuals who are older Indians and makes recommendations to the Assistant Secretary at six-month intervals, to facilitate coordination among federally funded programs and improve services to older Indians.

Provides the Native American input to the Office of Planning and Policy Development for inclusion in AoA's research plan. In addition, collaborates with the Office of Core Programs on Title VI-Title III coordination.

Provides input and feedback to the Office of Planning and Policy Development for the development and operation of Resource Centers on Native American Elders, which gather information, perform research, provide for dissemination of results of the research, and provide technical assistance and training to those who provide services to Native American elders.

Provides specialized input on Title VI programs and the Native American components of Title II and Title VII-B programs to other offices for long-range planning, operational plans, research and training, and the budget process. Develops testimony and background documents concerning Native Americans for use by the Assistant Secretary.

Serves as the AoA focal point for the administration and assessment of the programs authorized under Title VI and the Native American Organization provisions of Title VII-B of the OAA, including administering grants, cooperative agreements and contracts. Implements the American Indian, Alaskan Native, and Native Hawaiian programs in the field through provision of program and policy direction, training and oversight to the Regional Support Centers in the execution of the Native American components of their Title II, Title VI and Title VII-B responsibilities. Oversees the Regional Support Centers monitoring of Title VI grantees. Arranges for and manages ongoing training and technical assistance for Title VI grantees. Coordinates additional training and technical assistance with other projects managed by the Office of Planning and Policy Development.

5. Office of Elder Rights (BF3). The Office of Elder Rights (OER) provides support to the Deputy Assistant Secretary for Program Operations for the administration of the ombudsman, elder abuse prevention, legal assistance development, and pension counseling provisions of Titles II and VII of the OAA throughout the Aging Network, including administration of the National Ombudsman Resource Center and the National Center on Elder Abuse, and advising the Assistant Secretary on the operation of those Centers. In addition, OER administers the Senior Medicare Patrol projects under Title IV of the OAA and the Health Insurance Portability and Accountability Act of 1997.

Reviews State Plans to determine eligibility for funding under the OAA and recommends approval or disapproval to the Assistant Secretary. Implements Title VII in the field through the provision to Regional Support Centers of guidance and information concerning AoA programs, and the development and interpretation of Title VII program regulations and policy. Ensures the implementation of guidance and instructions concerning long-term care ombudsman, prevention of elder abuse, and elder rights and legal assistance development programs. Provides guidance and leadership in the development of the pension counseling program and effective models for nationwide replication.

Fosters, oversees, ensures accountability and assesses the implementation of Title VII by States through guidance and direction to Regional staff regarding program reviews, and program and system development and enhancements. Designs and provides training and technical assistance for program compliance, effectiveness, and enhancement.

Conducts staff functions and responsibilities for the operation of the Long-Term Care Ombudsman Program and makes recommendations to the Deputy Assistant Secretary for Program Operations for program and policy enhancement. Serves as the agency's focal point for coordinating, implementing, monitoring, expanding, evaluating, and promoting efforts to provide consumer information, education and protection designed to detect, prevent and report error, fraud and abuse in the Medicare and Medicaid programs. Provides in-depth expertise, information, leadership and technical assistance through the Regional Support Centers to the Senior Medicare Patrol network and serves as a reliable clearinghouse of information for the aging network, older persons and their families. Provides specialized input on Title VII and consumer protection programs to long-range planning, operational plans and the budget process. Develops program plans and instructions for AoA Regional Support Centers and State and Area Agencies to improve the Title VII protection and representational programs funded under the OAA.

6. Office of Regional Operations (BFD1-BFDX). The Office of Regional Operations report to the Deputy Assistant Secretary, CPO. The Office of Regional Operations include a coordinating central office liaison and nine Regional Support Centers, each of which is headed by a Regional Administrator (RA).

The Regional Support Centers serve as the focal point for the development, coordination and administration of OAA programs within the designated HHS region. Represent the Assistant Secretary for Aging within the region, providing information for, and contributing to the development of, national policy dealing with the elderly. Based on national policy and priorities, establish field program goals and objectives. Serve as the effective and visible advocates for the elderly to Federal agencies in their geographic jurisdiction to ensure the rights of the elderly; advise, consult and cooperate with each Federal agency proposing or administering programs or services related to the aging; coordinate and assist in the planning and development by public (including Federal, State, Tribal and local agencies) and private organizations of comprehensive and coordinated services and opportunities for older individuals in each community of the nation; and conduct active public education of officials and citizens and the aged to ensure broad understanding of the needs and capabilities of the aged.

Monitor, assist and evaluate State Agencies on Aging administering programs supported under Titles II, III and VII of the OAA, and Indian Tribal Organizations administering projects under Title VI. Review OAA State Plans on Aging and recommend approval or disapproval to the Assistant Secretary for Aging, as appropriate. Review applications and recommend approval or disapproval of Title VI applications to the Assistant Secretary.

Advise the Assistant Secretary of problems and progress of programs through the Deputy Assistant Secretary, CPO; recommend to the Assistant Secretary changes that would improve OAA operations; evaluate the effectiveness of OAA and related programs in the Regions and recommend to the Assistant Secretary or take positive action to gain improvement; and guide agencies and grantees in applications of policy to specific operational issues requiring resolution. Facilitate interagency cooperation at the Federal, Regional Support Center, State and Tribal levels to enhance resources and assistance available to the elderly. Disseminate and provide technical assistance regarding program guidelines and developments to State and Area Agencies, Indian Tribal Organizations and local community service providers.

II. Delegations of Authority: All delegations and redelegations of authority made to officials and employees of affected organizational components will continue in them or their successors pending further redelegations.

III. Funds, Personnel and Equipment: Transfer of organizations and functions affected by this reorganization shall be accompanied in each instance by direct and support funds, positions, personnel, records, equipment, supplies and other resources.

Dated: December 26, 2007.
Michael O. Leavitt,
Secretary.

[FR Doc. E8-39 Filed 1-7-08; 8:45 am]

BILLING CODE 4154-01-P